ENVIRONMENTAL PROTECTION AGENCY

[FRL-9903-93-Region-6]

Public Water System Supervision Program Revision for the State of Oklahoma

AGENCY: United States Environmental Protection Agency (EPA).

ACTION: Notice of tentative approval.

SUMMARY: Notice is hereby given that the State of Oklahoma is revising its approved Public Water System Supervision Program. Oklahoma has adopted three EPA drinking water rules, namely the: (1) Long Term 2 Enhanced Surface Water Treatment Rule (LT2), (2) the Stage 2 Disinfectants and Disinfection Byproducts Rule (DBP2), and (3) the Ground Water Rule (GWR). EPA has determined that the proposed LT2, DBP2, and the GWR submitted by Oklahoma are no less stringent than the corresponding federal regulations. Therefore, EPA intends to approve this program revision.

DATES: All interested parties may request a public hearing. A request for a public hearing must be submitted by January 8, 2014 to the Regional Administrator at the EPA Region 6 address shown below. Frivolous or insubstantial requests for a hearing may be denied by the Regional Administrator. However, if a substantial request for a public hearing is made by January 8, 2014, a public hearing will be held. If no timely and appropriate request for a hearing is received and the Regional Administrator does not elect to hold a hearing on his own motion, this determination shall become final and effective on January 8, 2014. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:00 a.m. and 4:30 p.m., Monday through Friday, at the following offices: Oklahoma Department of Environmental Quality, Water Quality Division, 707 N. Robinson, Oklahoma City, Oklahoma 73101-1677; and United States Environmental Protection Agency, Region 6, Drinking Water Section (6WQ-SD), 1445 Ross Avenue, Suite 1200, Dallas, Texas 75202.

FOR FURTHER INFORMATION CONTACT: Nichole Foster, EPA Region 6, Drinking Water Section at the Dallas address given above, or by telephone at (214) 665-7248, or by email at foster.nichole@epa.gov.

Authority: Section 1413 of the Safe Drinking Water Act, as amended (1996), and 40 CFR Part 142 of the National Primary Drinking Water Regulations.

Dated: November 26, 2013.
Sam Coleman,
Acting Regional Administrator.

[FR Doc. 2013-29346 Filed 12-6-13; 8:45 am]

BILLING CODE 6560-50-P